DEPARTMENT OF TRANSPORTATION

Federal Aviation Administration

Termination of the Preparation of an Air Tour Management Plan at Everglades National Park, Florida

AGENCY: Federal Aviation Administration.

ACTION: Notice of Termination of the Preparation of Air Tour Management Plan.

SUMMARY: The Federal Aviation Administration (FAA), in cooperation with the National Park Service (NPS) (together, the agencies), announces that it has discontinued its preparation of the Air Tour Management Plan (ATMP) for commercial air tour operations over Everglades National Park in Florida because the sole air tour operator with interim operating authority (IOA) for the park voluntarily surrendered its Part 135 operating certificate and is no longer authorized to conduct tours over the park. In addition, the voluntary agreements between the operator and the agencies for Biscayne National Park and Big Cypress National Preserve have been terminated and the operator will be deleted from the FAA's records of authorized commercial air tour operators.

FOR FURTHER INFORMATION CONTACT: Keith Lusk, Program Manager, AWP-1SP, Federal Aviation Administration, Western-Pacific Region, 777 South Aviation Boulevard, Suite 150, El Segundo, California 90245. Telephone: (424) 405-7017.

SUPPLEMENTARY INFORMATION: In a September 3, 2020 Federal Register notice (85 FR 55060), the FAA in cooperation with the National Park Service (NPS) provided notice of its intent to complete Air Tour Management Plans (ATMPs) for 23 National Park System units. The agencies began developing ATMPs for these parks, including Everglades National Park, pursuant to the National Parks Air Tour Management Act of 2000 (Pub. L. 106-181) and its implementing regulations contained in 14 CFR part 136, subpart B, National Parks Air Tour Management.

In a July 29, 2021 Federal Register notice (86 FR 40897), the FAA, in cooperation with the NPS, announced public meetings and the availability of proposed ATMPs for four National Park System units, including Everglades National Park. The agencies posted the draft ATMP for Everglades National Park on their respective websites and took comments over a 30-day period on the NPS Planning, Environment, and Public Comment System website. The agencies conducted a public meeting for the proposed ATMP for Everglades National Park on August 19, 2021.

On April 13, 2022, the sole operator with interim operating authority (IOA) for Everglades National Park voluntarily surrendered its Part 135 certificate. This certificate is required by the FAA for an operator that provides air transportation of persons or property for compensation or hire. Upon surrender of a Part 135 certificate, all authorizations given to an operator through its Operations Specifications are cancelled, including IOA to conduct commercial air tours over a park. In this case, the operator also had IOA for Biscayne National Park, Big Cypress National Preserve and Dry Tortugas National Park. Given that the operator is no longer authorized to conduct air tours over any of these parks, the operator will be deleted from the FAA's records of authorized commercial air tour operators.

As the sole operator conducting commercial air tours over Everglades National Park has voluntarily surrendered its operating certificate and no longer has the authority to conduct air tours over the park, an ATMP is no longer required or needed at this time. 49 U.S.C. 40128(b)(1)(A). Therefore, the FAA, in cooperation with the NPS, has discontinued its preparation of an ATMP for Everglades National Park.

The FAA and the NPS had also previously entered into voluntary agreements for the conduct of commercial air tours over Big Cypress National Preserve and Biscayne National Park with this same operator under 49 U.S.C. 40128(b)(7). This notice also announces that both of these voluntary agreements have been terminated due to the operator's voluntary surrender of its operating certificate and with it, its authority to conduct air tours over both Big Cypress National Preserve and Biscayne National Park.

Issued in El Segundo, California, on July 15, 2022.
Keith Lusk,
Program Manager, Special Programs Staff, Western-Pacific Region.

[FR Doc. 2022-15524 Filed 7-20-22; 8:45 am]

BILLING CODE 4910-13-P